DEPARTMENT OF LABOR

Mine Safety and Health Administration

30 CFR Parts 56, 57, 70, 71, 72, and 90

[Docket No. MSHA-2016-0013]

RIN 1219-AB36

Respirable Silica (Quartz)

AGENCY: Mine Safety and Health Administration, Labor.

ACTION: Announcement of public meeting and correction.

SUMMARY: The Mine Safety and Health Administration (MSHA) is announcing the date and location of a public meeting on the Agency's Request for Information on Respirable Silica (Quartz). In addition, this document corrects a typographical error included in the Request for Information that published on August 29, 2019.

DATES: The meeting date and location is listed in the SUPPLEMENTARY INFORMATION section of this document. Comments must be received or postmarked by midnight Eastern Daylight Saving time on October 28, 2019.

ADDRESSES: Submit comments and informational materials, identified by Docket No. MSHA-2016-0013, by one of the following methods:

• Federal E-Rulemaking Portal: https://www.regulations.gov. Follow the on-line instructions for submitting comments.

• Email: zzMSHA-comments@dol.gov.

• Email: GoodGuidance@dol.gov.

• Mail: MSHA, Office of Standards, Regulations, and Variances, 201 12th Street South, Suite 4E401, Arlington, Virginia 22202-5452.

• Hand Delivery or Courier: 201 12th Street South, Suite 4E401, Arlington, Virginia, between 9:00 a.m. and 5:00 p.m. Monday through Friday, except Federal holidays. Sign in at the receptionist's desk on the 4th floor East, Suite 4E401.

• Fax: 202-693-9441.

Instructions: All submissions must include Docket No. MSHA-2016-0013. Do not include personal information that you do not want publicly disclosed.

Email Notification: To subscribe to receive email notification when MSHA publishes rulemaking documents in the Federal Register, go to https://public.govdelivery.com/accounts/USDOL/subscriber/new.

Docket: For access to the docket to read comments received, go to http://www.regulations.gov or http://arlweb.msha.gov/currentcomments.asp. To read background documents, go to http://www.regulations.gov. Review the docket in person at MSHA, Office of Standards, Regulations, and Variances, 201 12th Street South, Arlington, Virginia, between 9 a.m. and 5 p.m. Monday through Friday, except Federal Holidays. Sign in at the receptionist's desk in Suite 4E401. [Docket Number: MSHA-2016-0013]

FOR FURTHER INFORMATION CONTACT: Sheila A. McConnell, Director, Office of Standards, Regulations, and Variances, MSHA, at mcconnell.sheila.a@dol.gov (email), 202-693-9440 (voice), or 202-693-9441 (fax). These are not toll-free numbers.

SUPPLEMENTARY INFORMATION:

I. Public Meeting

MSHA will hold a public meeting on the Agency's Request for Information on Respirable Silica (Quartz) to receive input from industry, labor, and other interested parties. The public meeting will be held on October 17, 2019, at MSHA Headquarters, 201 12th Street South, Arlington, Virginia 22202-5452. The public meeting will begin at 9 a.m. local time and conclude at 5 p.m., or until the last speaker speaks. The meeting will be conducted in an informal manner. Presenters and attendees may provide written information to the court reporter for inclusion in the record. MSHA will make the transcript of the meeting available at http://www.regulations.gov and on MSHA's website at: https://arlweb.msha.gov/currentcomments.asp.

II. Correction

MSHA's Request for Information, which published in the issue of August 29, 2019, at 84 FR 45452, included a typographical error.

On page 45453, in the first paragraph, in the third column, the last sentence is revised to read: “In 2016, the Occupational Safety and Health Administration (OSHA) amended MSHA's existing respirable crystalline silica standards to establish a permissible exposure limit (PEL) of 50 µg/m³ (ISO).¹¹” The sentence should read, “In 2016, the Occupational Safety and Health Administration (OSHA) amended OSHA's existing respirable crystalline silica standards to establish a permissible exposure limit (PEL) of 50 µg/m³ (ISO).¹¹”

¹¹ Occupational Safety and Health Administration (OSHA). 2016. Occupational Exposure to Respirable Crystalline Silica—Final Rule. 81 FR 16286.

David G. Zatezalo,
Assistant Secretary of Labor for Mine Safety and Health Administration.

[FR Doc. 2019-20751 Filed 9-26-19; 8:45 am]

BILLING CODE 4520-43-P